DEPARTMENT OF ENERGY

Federal Energy Regulatory Commission

[Docket No. CP01-383-000]

Raton Gas Transmission Company; Notice of Filing

July 9, 2001.

Take notice that on June 12, 2001, Raton Gas Transmission Company. (RGT), P.O. Box 308, Raton, New Mexico 87740, filed an abbreviated application for a temporary emergency certificate of public convenience and necessity pursuant to Section 7 of the Natural Gas Act, 15 U.S.C. 717f(c), and Part 157 the Commission's Rules and Regulations.

RGT requests an immediate temporary certificate authorizing RGT to transport up to 6290 Dth/d of natural gas for the City of Las Vegas, New Mexico (the City). In the alternative, RGT requests the Commission to grant to RGT and Zia Natural Gas Company, a division of Natural Gas Processing Company (Zia), a waiver of any and all Commission regulations as may be required to allow the City to transport its own gas supplies through Zia's capacity on RGT and that portion of the Colorado Interstate Gas Company (CIG) capacity held by RGT for its customers.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before July 30, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-17544 Filed 7-12-01; 8:45 am]

BILLING CODE 6717-01-P